DEPARTMENT OF COMMERCE

National Oceanic and Atmospheric Administration

Agency Information Collection Activities; Submission to the Office of Management and Budget (OMB) for Review and Approval; Comment Request; Assessing Public Preferences and Values To Support Coastal and Marine Management

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before October 24, 2023.

ADDRESSES: Interested persons are invited to submit written comments to Adrienne Thomas, NOAA PRA Officer, at NOAA.PRA@noaa.gov. Please reference OMB Control Number 0648-XXXX in the subject line of your comments. Do not submit Confidential Business Information or otherwise sensitive or protected information.

FOR FURTHER INFORMATION CONTACT: Requests for additional information or specific questions related to collection activities should be directed to Sarah Gonyo, Economist, 1305 East West Highway, Silver Spring, MD 20910, 240-621-1999, sarah.gonyo@noaa.gov.

SUPPLEMENTARY INFORMATION:

I. Abstract

This request is for a new information collection, which will include focus groups and pre-test to help guide revisions necessary to the survey instrument, to directly support decision-makers with the National Estuarine Research Reserve (NERR). The proposed data collection involves surveying randomly selected residents (aged 18 years and older) from households in counties surrounding the NERRs. The purpose of this information collection is to obtain data on the opinions, values, attitudes, and behaviors of visitors to National Ocean Service (NOS) special places, as well as residents from surrounding areas. The initial surveys will be conducted for the Chesapeake Bay National Estuarine Research Reserve in Virginia (CBNERR-VA), Weeks Bay NERR (WBNERR), and Grand Bay NERR (GNDNERR), and the survey will be repeated regularly in other NERRs based on information needs and budget.

The NERRS is a federal-state partnership program for the stewardship, education, and research of unique estuarine sites. This data collection supports the NERRS' vision of establishing healthy estuaries and coastal watersheds where human and ecological communities thrive. The NERRS has identified five priority research areas, including a focus on social science and economic processes within each NERR site. However, limited data exist characterizing stakeholder activities, attitudes, knowledge, and preferences, including their spatial aspects. Gathering such data is essential for effective management of stakeholder groups, regulatory proposals, and resource management decisions.

Designated in 1986, WBNERR is located along the eastern shore of Mobile Bay in Baldwin County, Alabama. CBNERR-VA, designated in 1991, comprises four reserve sites within the York River in the southern Chesapeake Bay subregion. Finally, GNDNERR was established in 1999 and is in the Grand Bay Savannah Complex along the Mississippi-Alabama state line in Jackson County, Mississippi. All three NERRS prioritize public access and responsible use to protect ecosystems, identifying public sites, minimizing conflicts, and evaluating visitor use. Therefore, information is needed on who uses these NERR sites, their motivations, management preferences, and why some do not visit. This data supports conservation and management goals, strengthens decision-making, increases capacity, and extends education and outreach. It is also required by NOAA to meet objectives related to ocean and coastal planning and management. The data benefits state and local officials as well.

NOAA's mission is to provide science, service and stewardship for, among other activities, management of the nation's oceans and coasts. NOAA supports “comprehensive ocean and coastal planning and management” in order to facilitate use of oceans and coasts, while also ensuring “continued access to coastal areas, sustained ecosystems, maintained cultural heritage, and limited cumulative impacts.” NOAA is subject to and supports mandates of the Coastal Zone Management Act (CZMA) (16 U.S.C. 1452(303)(2)(D)), which encourages the wise use of coastal resources, including energy activity. The CZMA also encourages the inclusion and participation of the public in carrying out the tenets of the act (16 U.S.C. 1452(303)(4)). The National Environmental Policy Act (NEPA) (40 CFR 1502.6) mandates federal agencies to use social science data to assess the impacts of federal actions on the human environment. Consequently, up-to-date sociological data is needed to support federal agency obligations under each of these acts.

Finally, NOAA is responding to Executive Orders 13707 and 13985. Executive Order 13707, Using Behavioral Science Insights to Better Serve the American People, requests federal agencies to, among other actions: “identify policies, programs, and operations where applying behavioral science insights may yield substantial improvements in public welfare, program outcomes, and program cost effectiveness” and “develop strategies for applying behavioral science insights to programs and, where possible, rigorously test and evaluate the impact of these insights.” Executive Order 13985, On Advancing Racial Equity and Support for Underserved Communities Through the Federal Government, requires the federal government to allocate resources “in a manner that increases investment in underserved communities, as well as individuals from those communities.”

II. Method of Collection

Information will be collected with a combination of mail recruitment with push-to-web and mail-back survey instrument.

III. Data

OMB Control Number: 0648-XXXX.

Form Number(s): None.

Type of Review: Regular Submission [New information collection].

Affected Public: Individuals or households.

Estimated Number of Respondents: Focus groups: 144; Questionnaire: 10,256.

Estimated Time per Response: Focus groups: 1 hour; Questionnaire: 20 minutes.

Estimated Total Annual Burden Hours: 3,528.48.

Estimated Total Annual Cost to Public: $0.

Respondent's Obligation: Voluntary.

Legal Authority: Coastal Zone Management Act (CZMA) (16 U.S.C. 1452(303)(2)(D)), National Environmental Policy Act (NEPA) (40 CFR 1502.6).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2023-18292 Filed 8-24-23; 8:45 am]

BILLING CODE 3510-JE-P